DEPARTMENT OF TRANSPORTATION

Federal Aviation Administration

[Summary Notice No. 2017-87]

Petition for Exemption; Summary of Petition Received; Mr. James Giancola

AGENCY: Federal Aviation Administration (FAA), DOT.

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before January 2, 2018.

ADDRESSES: Send comments identified by docket number FAA-2017-1037 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Keira Jones (202) 267-6109, Office of Rulemaking, Federal Aviation Administration, 800 Independence Avenue SW, Washington, DC 20591.

This notice is published pursuant to 14 CFR 11.85.

Dale Bouffiou,
Deputy Director, Office of Rulemaking.

Petition for Exemption

Docket No.: FAA-2017-1037.

Petitioner: James Giancola.

Section(s) of 14 CFR Affected: § 61.155(d), § 61.156, SFAR No. 100-2.

Description of Relief Sought: The petitioner seeks an exemption from the requirement of § 61.155(d) to allow him to complete the practical test for the airline transport pilot certificate beyond 24 months from the month in which the knowledge test was successfully completed.

The petitioner also seeks an exemption from the requirement of § 61.155(d) that an applicant who passes the knowledge test prior to August 1, 2014, but fails to successfully complete the airplane category with a multiengine class rating practical test within 24 months must complete the airline transport pilot certification training program specified in § 61.156 and retake the knowledge test prior to applying for the airplane category with a multiengine class rating practical test.

The petitioner seeks an exemption from the requirement of SFAR 100-2, Para 2(c) authorizing Flight Standards District Offices to accept an expired written test report to show eligibility under 14 CFR part 61 to take a practical test if the eligible person completes the appropriate practical test within 6 calendar months after returning to the United States.

[FR Doc. 2017-26845 Filed 12-12-17; 8:45 am]

BILLING CODE 4910-13-P